FEDERAL COMMUNICATIONS COMMISSION

47 CFR Part 8

[CG Docket No. 22-2; Report No. 3191; FR ID 124723]

Petition for Reconsideration of Action in Rulemaking Proceeding

AGENCY: Federal Communications Commission.

ACTION: Petition for Reconsideration.

SUMMARY: Petitions for Reconsideration (Petitions) have been filed in the Commission's proceeding by Tamar E. Finn, on behalf of Cincinnati Bell Telephone Company et al., Sarah Leggin, on behalf of CTIA, and Brian Hurley, on behalf of ACA et al.

DATES: Oppositions to the Petitions must be filed on or before February 15, 2023. Replies to an opposition must be filed on or before February 27, 2023.

ADDRESSES: Federal Communications Commission, 45 L Street NE, Washington, DC 20554.

FOR FURTHER INFORMATION CONTACT: Zac Champ, Deputy Division Chief, Consumer Policy Division, Consumer and Governmental Affairs Bureau, (202) 418-1495 or via email at zac.champ@fcc.gov.

SUPPLEMENTARY INFORMATION: This is a summary of the Commission's document, Report No. 3191, released January 23, 2023. The full text of the Petitions can be accessed online via the Commission's Electronic Comment Filing System at: https://apps.fcc.gov/ecfs/. The Commission will not send a Congressional Review Act (CRA) submission to Congress or the Government Accountability Office pursuant to the CRA, 5 U.S.C. 801(a)(1)(A), because no rules are being adopted by the Commission.

Subject: In the Matter of Empowering Broadband Consumers Through Transparency, published at 87 FR 76959, December 16, 2022, in CG Docket No. 22-2. This document is being published pursuant to 47 CFR 1.429(e).

Number of Petitions Filed: 3.

Federal Communications Commission.
Marlene Dortch,
Secretary, Office of the Secretary.

[FR Doc. 2023-01854 Filed 1-30-23; 8:45 am]

BILLING CODE 6712-01-P